DEPARTMENT OF VETERANS AFFAIRS

Reimbursement for Caskets and Urns for Burial of Unclaimed Remains in a National Cemetery

AGENCY: Department of Veterans Affairs.

ACTION: Notice.

SUMMARY: As required under the final regulation published elsewhere in this issue of the Federal Register, the Department of Veterans Affairs (VA) National Cemetery Administration (NCA) notifies interested parties of the maximum reimbursement amounts allowed for caskets and urns provided for interment in a VA national cemetery of the unclaimed remains of veterans with no known next-of-kin where sufficient financial resources are unavailable for the furnishing of a casket or urn for burial.

DATES: Maximum reimbursement rates in this notice are applicable for claims received in calendar year 2015 for burial receptacles purchased for interment of deceased eligible veterans in VA national cemeteries.

FOR FURTHER INFORMATION CONTACT: Tamula Jones, Budget Operations and Field Support Division, National Cemetery Administration, Department of Veterans Affairs, 810 Vermont Avenue NW., Washington, DC 20420. Telephone: 202-461-6688 (this is not a toll-free number).

SUPPLEMENTARY INFORMATION: Section 2306(f) of title 38, U.S.C., authorizes the Department of Veterans Affairs (VA) National Cemetery Administration (NCA) to furnish a casket or urn for interment in a VA national cemetery of the unclaimed remains of veterans for whom VA cannot identify a next of kin and determines that sufficient financial resources for the furnishing of a casket or urn for burial are not available. In another portion of this Federal Register, VA publishes the final rule for 38 CFR 38.628, implementing this authority by providing reimbursement for the purchase of a burial receptacle for an eligible veteran whose death occurs after January 10, 2014, subject to a maximum reimbursement limit, which is based on the average cost of a casket or urn meeting certain specifications available for purchase during the fiscal year preceding the calendar year of the date an application is received. This notice provides the maximum reimbursement rate for applications received in calendar year 2015.

Throughout 2014, VA advised individuals who intended to seek reimbursement for the purchase of caskets or urns to hold their receipts until the publication of the final rule. Because publication of the final rule was delayed, and these individuals could not submit those claims in calendar year 2014, VA has determined that the current maximum rates should apply.

We will continue to use the calculation for reimbursement rates as determined by the average cost of caskets and urns that meet the minimum specifications provided in 38 CFR 38.628(c)(5). We will conduct market research of prices from multiple sources for procurement of durable plastic urns and metal caskets. Using this method of computation, the average cost was determined to be $1,938 for caskets and $169 for urns for fiscal year 2013. The allowance payable for calendar year 2014, would have been $1,938 for caskets and $169 for urns. VA has calculated the 2015 amounts by adjusting the 2014 rates for inflation. We state that the maximum reimbursement amounts for 2015 are $1,967 for a casket and $172 for an urn, which apply to all applications received in calendar year 2015.

Signing Authority

The Secretary of Veterans Affairs, or designee, approved this document and authorized the undersigned to sign and submit the document to the Office of the Federal Register for publication electronically as an official document of the Department of Veterans Affairs. Jose D. Riojas, Chief of Staff, approved this document on April 7, 2015, for publication.

Dated: April 8, 2015.
William F. Russo,
Acting Director, Office of Regulation Policy & Management, Office of the General Counsel, U.S. Department of Veterans Affairs.

[FR Doc. 2015-08387 Filed 4-10-15; 8:45 am]

BILLING CODE 8320-01-P